DEPARTMENT OF AGRICULTURE

Cooperative State Research, Education, and Extension Service

Request for Applications (RFA): Innovative Programs for Addressing Common Community Problems

AGENCY: Cooperative State Research, Education, and Extension Service (CSREES), USDA.

ACTION: Notice of request for applications and request for input.

SUMMARY: The Cooperative State Research, Education, and Extension Service (CSREES) announces the availability of grant funds for a new activity, Innovative Programs for Addressing Common Community Problems (IPACCP). This notice requests applications for the IPACCP for fiscal year (FY) 2002 to support a grant to a non-governmental organization (NGO) to establish and operate a national information clearinghouse on innovative means for addressing common community problems. CSREES additionally requests stakeholder input from any interested party for use in the development of the next Request for Applications (RFA) for this program.

The amount available for the support of IPACCP activities in FY 2002 is $200,000.

This notice identifies the objectives of the IPACCP project, eligibility criteria for the project and applicants, and the application forms and associated instructions needed to apply for a IPACCP grant.

DATES: Applications must be received by close of business (COB) on September 20, 2002. Applications received after this deadline will not be considered for funding. Comments regarding this RFA are requested within six months from the issuance of this notice. Comments received after that date will be considered to the extent practicable.

ADDRESSES: The address for hand-delivered applications or applications submitted using express mail (U. S. Postal Service) or overnight courier service is: Innovative Programs for Addressing Common Community Problems; c/o Proposal Services Unit; Cooperative State Research, Education, and Extension Service; U.S. Department of Agriculture; Room 1420, Waterfront Centre; 800 9th Street, SW.; Washington, DC 20024; Telephone: (202) 401-5048.

Applicants are strongly encouraged to submit completed applications via overnight mail or delivery service to ensure timely receipt by USDA.

Written stakeholder comments should be submitted by mail to: Policy and Program Liaison Staff; Office of Extramural Programs; USDA-CSREES; STOP 2299; 1400 Independence Avenue, SW.; Washington, DC 20250-2299; or via e-mail to: rfp-oep@reeusda.gov. (This e-mail address is intended only for receiving comments regarding this RFA and not requesting information or forms.) In your comments state that you are responding to the Innovative Programs for Addressing Common Community Problems RFA.

FOR FURTHER INFORMATION CONTACT: Applicants and other interested parties are encouraged to contact Elizabeth Tuckermanty, Program Director, Innovative Programs for Addressing Common Community Problems; Cooperative State Research, Education, and Extension Service, USDA, 1400 Independence Avenue, SW., STOP 2241, Washington, DC 20250-2241; telephone: (202) 205-0241; fax: (202) 401-6488; email: etuckermanty@reeusda.gov.

SUPPLEMENTARY INFORMATION:

Table of Contents

Stakeholder Input

Catalog of Federal Domestic Assistance

PART I—GENERAL INFORMATION

A. Legislative Authority and Background

B. Purpose, Priorities, and Fund Availability

C. Eligibility

D. Matching Requirements

E. Funding Restrictions

F. Types of Applications

PART II—PROGRAM DESCRIPTION

A. Project Types

B. Program Description

PART III—PREPARATION OF AN APPLICATION

A. Program Application Materials

B. Content of Applications

C. Submission of Applications

D. Acknowledgment of Applications

PART IV—REVIEW PROCESS

A. General

B. Evaluation Factors

C. Conflicts of Interest and Confidentiality

PART V—AWARD ADMINISTRATION

A. General

B. Organizational Management Information

C. Grant Award Document and Notice of Grant Award

PART VI—ADDITIONAL INFORMATION

A. Access to Review Information

B. Use of Funds; Changes

C. Expected Program Outputs and Reporting Requirements

D. Applicable Federal Statutes and Regulations

E. Confidential Aspects of Applications and Awards

F. Regulatory Information

G. Definitions

Stakeholder Input

CSREES is requesting comments regarding this RFA from any interested party. In your comments please include the name of the program and the fiscal year solicitation for applications to which you are responding. These comments will be considered in the development of any future RFA for the program. CSREES has determined that this program is not an agricultural research, extension, or education program for the purpose of section 103(c)(2) of the Agricultural Research, Extension, and Education Reform Act of 1998, 7 U.S.C. 7613(c)(2). Therefore, CSREES is not required by the statute to solicit stakeholder input regarding this RFA. CSREES, however, always welcomes constructive comments from interested parties regarding a RFA or particular program. Comments should be submitted as provided in the ADDRESSES and DATES portions of this Notice. The e-mail address in the addresses portion is intended only for receiving comments regarding this RFA and not for requesting information or forms.

Catalog of Federal Domestic Assistance

This program is listed in the Catalog of Federal Domestic Assistance under 10.225, Innovative Programs for Addressing Common Community Problems.

Part I—General Information

A. Legislative Authority and Background

Section 25 of the Food Stamp Act of 1977 (7 U.S.C. 2034), as amended by section 4125 of the Farm Security and Rural Investment Act of 2002 (Pub. L. 107-171), authorizes the provision of a competitive grant to one non-governmental organization (NGO) to coordinate with Federal agencies, States, political subdivisions, and other non-governmental organizations (collectively referred to in this notice as “targeted entities”) to gather information on Innovative Programs for Addressing Common Community Problems, and recommend such programs to targeted entities.

B. Purpose, Priorities, and Fund Availability

1. Purpose and Priorities

The purpose of the Innovative Programs for Addressing Common Community Problems (IPACCP) is to provide Federal funds to support coordination with targeted entities to gather information, and recommend to targeted entities: innovative programs for addressing common community problems. Common community problems refer to the underlying causes of hunger and poverty, including the loss of farms and ranches, rural poverty, welfare dependency, hunger, the need for job training, and the need for self-sufficiency by individuals and communities.

The IPACCP grantee will: operate a national information clearinghouse on innovative means, including Community Food Projects, for addressing common community problems in the areas outlined above; provide information and guidance to other targeted entities on innovative programs that offer constructive, community-based or grassroots solutions to hunger, community food insecurity, and poverty; and contribute in-kind resources toward implementation of the grant.

2. Fund Availability

The amount of funds available in FY 2002 for support of a grant award under the IPACCP is $200,000.

C. Eligibility

Only non-governmental organizations (NGOs) are eligible to receive an IPACCP grant. Eligible NGOs must be:

(1) Experienced in working with targeted entities— Federal agencies, States, political subdivisions, and other non-governmental organizations—and in organizing workshops that demonstrate programs to targeted entities;

(2) Experienced in identifying programs that effectively address community problems, including loss of farms and ranches, rural poverty, welfare dependency, hunger, the need for job training, and the need for self-sufficiency by individuals and communities, that can be implemented by other targeted entities;

(3) Experienced in, and capable of receiving information from and communicating with targeted entities throughout the United States; and

(4) Experienced in operating a national information clearinghouse that addresses one or more of the community problems described in paragraph (2) above.

D. Matching Requirements

The legislation establishing the IPACCP requires that as a condition to receiving a grant from CSREES, the NGO must “contribute in-kind resources toward the implementation of the grant.” To comply with this provision, CSREES has determined that applicants must provide at least 25 percent of total project resources on an in-kind basis during the term of the grant award. The Federal share of IPACCP costs can be no more than 75 percent of total project costs.

IPACCP grantees may provide matching resources through in-kind contributions from their own organization or from third-party in-kind contributions, fairly evaluated, including facilities. The non-Federal share of the resources may come from State government, local government, other non-profit entities, or private sources. Examples of qualifying matching contributions may include direct costs such as: rent for office space used exclusively for the funded project; duplication or postage costs; and staff time from an entity other than the applicant for IPACCP activities.

E. Funding Restrictions

Applicants should ensure their proposed work fully justifies the $200,000 that is available.

The award will be made based on the merit of the proposed project with budgets considered only after the merits of the project have been determined. USDA reserves the right to negotiate final budgets with the successful applicant. The grantee shall perform a substantive portion of the project. No more than one-half of an IPACCP award, as determined by budget expenditures, may be subawarded or subcontracted to other organizations. For additional knowledge or expertise that is not available within the applicant organization, funds for expert consultation may be included in the “All Other Direct Costs” section of the proposed budget.

F. Types of Applications

In FY 2002, applications should be submitted to the IPACCP as a New Application. This is a project application that has not been previously submitted to the Program. All New Applications will be reviewed competitively using the selection process and evaluation criteria described in Part IV—Review Process.

Part II—Program Description

A. Project Types

In FY 2002 $200,000 is available for a single, standard grant to establish and operate a national information clearinghouse for innovative approaches to common community problems and to provide information and guidance to other targeted entities on innovative programs. Applicants may request funding for up to three years in duration with a budget of not more than $200,000.

B. Program Description

The purpose of the Innovative Programs for Addressing Common Community Problems is to gather and disseminate among local, community, state, and Federal organizations and agencies information about innovative programs that address or ameliorate common community problems in the general subject areas of food, nutrition, and agriculture, including the loss of farms and ranches, rural poverty, welfare dependency, hunger, community food insecurity, the need for job training, and the need for self-sufficiency by individuals and communities. The grantee should also receive and distribute information on Community Food Projects supported by CSREES.

In addition to operating a national information clearinghouse on innovative means to address community problems, the grantee will also provide information and guidance on innovative programs through other means, for example, workshops, printed or copied materials, and electronic means. Clearinghouse information should be readily available to and easily accessible by Federal, state, and local government agencies, local community leaders, non-governmental organizations, and the public.

Part III—Preparation of An Application

A. Program Application Materials

Program application materials (application kit) are available at the CSREES Funding Opportunities Web site (http://www.reeusda.gov/1700/funding/ourfund.htm). If you do not have access to the Web page or have trouble downloading material and you would like a hardcopy, you may contact the Proposal Services Unit, USDA/CSREES at (202) 401-5048. When calling the Proposal Services Unit, please indicate that you are requesting the RFA and associated application forms for the Innovative Programs for Addressing Common Community Problems. These materials also may be requested via Internet by sending a message with your name, mailing address (not e-mail) and phone number to psb@reeusda.gov. State that you want a copy of the RFA and the associated application forms for IPACCP and request that the materials be sent by overnight delivery.

B. Content of Applications

The application should be prepared following the guidelines and the instructions below. Each application must contain the following elements in the order indicated:

1. General

Use the following guidelines to prepare an application. Proper preparation of applications will assist reviewers in evaluating the merits of each application in a systematic, consistent fashion:

(a) Prepare the application on only one side of the page using standard size (8 ½ × 11″) white paper, one-inch margins, typed or word processed using no type smaller than 12 point font, and single or double spaced. Use an easily readable font face (e.g., Geneva, Helvetica, Times Roman).

(b) Number each page of the application sequentially, starting with the Project Description, including the budget pages, required forms, and any appendices.

(c) Staple the application in the upper left-hand corner. Do not bind. An original and four copies (five total) must be submitted in one package.

(d) Include original illustrations (photographs, color prints, etc.) in all copies of the application to prevent loss of meaning through poor quality reproduction.

(e) The contents of the application should be assembled in the following order:

(1) Proposal Cover Page (Form CSREES-2002, Page A)

(2) Table of Contents

(3) Project Summary (Form CSREES-2003)

(4) Project Description

(5) References

(6) Appendices to Project Description

(7) Key Personnel

(8) Collaborative Arrangements (including Letters of Support)

(9) Budget (Form CSREES-2004)

(10) Budget Narrative

(11) Matching

(12) Current and Pending Support (Form CSREES-2005)

(13) Assurance Statement(s) (Form CSREES-2008)

(14) Compliance with the National Environmental Policy Act (NEPA) (Form CSREES-2006)

(15) Page B, Proposal Cover Page (Form CSREES-2002), Personal Data on Project Director

2. Proposal Cover Page (Form CSREES-2002)

Please note that Form CSREES-2002 is comprised of two parts—Page A which is the “Proposal Cover Page” and Page B which is the “Personal Data on Project Director.”

Page A

Each copy of each grant application must contain a “Proposal Cover Page,” Form CSREES-2002. One copy of the application, preferably the original, must contain the pen-and-ink signature(s) of the proposing Project Directors (PD's) and the Authorized Organizational Representative (AOR), the individual who possesses the necessary authority to commit the organization's time and other relevant resources to the project. If there are more than three co-PD's for an application, please list additional co-PD's on a separate sheet of paper (with appropriate information and signatures) and attach to the Proposal Cover Page (Form CSREES-2002). Any proposed PD or co-PD whose signature does not appear on Form CSREES-2002 or attached additional sheets will not be listed on any resulting grant award. Complete both signature blocks located at the bottom of the “Proposal Cover Page” form.

Form CSREES-2002 serves as a source document for the CSREES grant database; it is therefore important that it be accurately completed in its entirety, especially the e-mail addresses requested in blocks 4.c. and 18.c. However, the following items are highlighted as having a high potential for errors or misinterpretations:

(a) Type of Performing Organization (Blocks 6A and 6B). For block 6A, a check should be placed in the appropriate box to identify the non-profit or non-governmental organization which is the legal applicant named in block 1. Only one box should be checked. For block 6B, please check as many boxes that apply to the affiliation of the PD listed in block 16.

(b) Title of Proposed Project (Block 7). The title of the project must be brief (140-character maximum, including spaces), yet represent the major thrust of the effort being proposed.

(c) Program to Which You Are Applying (Block 8). Enter Innovative Programs for Addressing Common Community Problems or IPACCP.

(d) Type of Request (Block 14). Check the block for “New.”

(e) Project Director (PD) (Blocks 16-19). Blocks 16-18 are used to identify the PD and Block 19 to identify co-PD's. If needed, additional co-PD's may be listed on a separate sheet of paper and attached to Form CSREES-2002, the Proposal Cover Page, with the applicable co-PD information and signatures. Listing multiple co-PD's, beyond those required for genuine collaboration, is discouraged.

Page B

Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For consistency and ease in locating information, each application must contain a detailed Table of Contents immediately following the proposal cover page. The Table of Contents should contain page numbers for each component of the application. Page numbering should begin with the first page of the Project Description.

4. Project Summary (Form CSREES-2003)

The application must contain a “Project Summary,” Form CSREES-2003. The summary should be no more than 250 words, contained within the box, placed immediately after the Table of Contents, and not be numbered. The names and affiliated organizations of all PD's and co-PD's should be listed on this form, in addition to the title of the project. The summary should be a self-contained, specific description of the activity to be undertaken and should focus on: overall project goal(s) and supporting objectives; plans to accomplish project goal(s); and relevance of the project to the goals of the program. The importance of a concise, informative Project Summary cannot be overemphasized. If there are more than four co-PD's for an application, please list additional co-PD's on a separate sheet of paper (with appropriate information) and attach to the Project Summary (Form CSREES-2003).

5. Project Description

Please Note: The Project Description shall not exceed 15 pages of written text and up to 10 pages of additional pages for figures and tables. This maximum (25 pages) has been established to ensure fair and equitable competition.

A narrative Project Description must repeat and respond to the points in (a) through (d) below:

(a) How common community problems upon which information is to be gathered will be identified. Succinctly describe the process by which the most common community problems contributing to food insecurity, in the opinion of the applicant, will be identified. This section should also address how information on innovative programs addressing such problems will be gathered. At a minimum, these problems should include: loss of farms and ranches; rural poverty; welfare dependency; hunger; the need for job training; and the need for self-sufficiency by individuals and communities.

Information on CSREES supported Community Food Projects (CFP) must also be gathered, and the applicant should describe how, in coordination with CSREES and the Community Food Security Coalition, CFP information will be gathered and disseminated.

(b) How targeted entities will be identified. The applicant should provide a systematic approach to identifying appropriate targeted entities—Federal agencies, States, political subdivisions, and other non-governmental organizations—involved in food, nutrition, and agriculture issues.

(c) How IPACCP information will be delivered to targeted entities. Applicants should detail potential methods for delivering information to targeted entities. Describe experience in delivering information on programs that effectively address community problems, including loss of farms and ranches, rural poverty, welfare dependency, hunger, the need for job training, and the need for self-sufficiency by individuals and communities, that can be implemented by other targeted entities;

(d) How a national information clearinghouse will be organized and operated. Applicants should discuss how a national clearinghouse will function in responding to inquiries about hunger and poverty issues. Applicants should address how various types of requests—telephonic, electronic, and mail—will be handled to provide expeditious responses to targeted entities.

(e) Organizational experience. Provide information on the applicant's experience in IPACCP-type activities. To be eligible for an award, the applicant and/or collaborators must be experienced in working with targeted entities and in organizing workshops, identifying model programs, receiving and communicating information, and operating a national clearinghouse. If other NGOs are to be involved in carrying out the proposed work plan, their role should be outlined and their experience also detailed in the application. Letters from the organizations involved acknowledging their support and contributions must be provided in an appendix to the proposal.

(f) Timeline. Identify the major milestones that will indicate progress toward achieving the project goals. Provide a timeline or systematic description of the approach for accomplishing major project objectives.

(g) Evaluation. The IPACCP grantee will work in conjunction with the Community Food Security Coalition to determine appropriate evaluation measures for IPACCP activities and then proceed to institute those measures. The Community Food security Coalition currently has an evaluation grant so coordination is important.

6. References

All references to works cited should be completed, including titles and all co-authors, and should conform to an acceptable journal format. References are not considered in the page-limitation for the Project Description.

7. Appendices to Project Description

Appendices to the Project Description are allowed if they are directly germane to the proposed project. The addition of appendices should not be used to circumvent the text and/or figures and tables page limitations.

8. Key Personnel

The following should be included as appropriate:

(a) The roles and responsibilities of each PD and/or collaborator should be clearly described; and

(b) The vitae of the PD and each co-PD, senior associate, and other professional personnel. This section should include the vitae of all key persons who are expected to work on the project, whether or not CSREES funds are sought for their support. The vitae should be limited to two (2) pages each in length, excluding publications listings. The vitae should include a presentation of academic and research credentials, as applicable, e.g., earned degrees, teaching experience, employment history, professional activities, honors and awards, and grants received. A chronological list of all publications in refereed journals during the past four (4) years, including those in press, must be provided for each project member for whom a curriculum vitae is provided. Also list only those non-refereed technical publications that have relevance to the proposed project. All authors should be listed in the same order as they appear on each paper cited, along with the title and complete reference as these usually appear in journals.

9. Collaborative Arrangements

If it will be necessary to enter into formal consulting or collaborative arrangements with others, such arrangements should be fully explained and justified. If the consultant(s) or collaborator(s) are known at the time of application, a vitae or resume should be provided. In addition, evidence (e.g., letter or support) should be provided that the collaborators involved have agreed to render these services. The applicant also will be required to provide additional information on consultants and collaborators in the budget portion of the application. See instructions in the application forms for completing Form CSREES-2004, Budget.

10. Budget

(a) Budget Form (Form CSREES-2004)

Prepare the Budget, Form CSREES-2004, in accordance with instructions provided with the application forms. A budget form is required for each year of requested support. In addition, a cumulative budget is required detailing the requested total support for the overall project period. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants also must include a budget narrative to justify their budget requests (see section 11 below.)

(b) Indirect Costs

If available, the current rate negotiated with the cognizant Federal negotiating agency should be used. Indirect costs may not exceed the negotiated rate. If a negotiated rate is used, the percentage and base should be indicated in the space allotted under item L. on the Budget Form. If no rate has been negotiated, a reasonable dollar amount for indirect costs may be requested, which will be subject to approval by USDA. In the latter case, if a proposal is recommended for funding, an indirect cost rate proposal must be submitted prior to award to support the amount of indirect costs requested. CSREES will request an indirect cost rate proposal and provide instructions, as necessary. An applicant may elect not to charge indirect costs and, instead, use all grant funds for direct costs. If indirect costs are not charged, the phrase “None requested” should be written in this space.

11. Budget Narrative

All budget categories, with the exception of Indirect Costs, for which support is requested, must be individually listed (with costs) in the same order as the budget and justified on a separate sheet of paper and placed immediately behind the Budget form.

12. Matching

As stated in above, in-kind matching resources are mandatory for all IPACCP projects. All of the applicant's matching support should be shown on the original budget in the appropriate categories (salary, materials and supplies, equipment, etc.) A budget narrative for these items must also be included. Proposals should include written verification of commitments of matching support of in-kind contributions from third parties.

Written verification means that for any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amounts of all matching support from outside the applicant institution should be summarized on a separate page and placed in the proposal immediately following the Budget Narrative. All pledge agreements must be placed in the proposal immediately following the summary of matching support. The value of applicant contributions to the project shall be established in accordance with applicable cost principles.

13. Current and Pending Support (Form CSREES-2005)

All applications must contain Form CSREES-2005 listing other current public or private support (including in-house support) to which personnel (i.e., individuals submitting a vitae in response to item 8.(b) of this part) identified in the application have committed portions of their time, whether or not salary support for person(s) involved is included in the budget. Please follow the instructions provided on this form. Concurrent submission of identical or similar applications to possible sponsors will not prejudice application review or evaluation by CSREES. However, an application that duplicates or overlaps substantially with an application already reviewed and funded (or to be funded) by another organization or agency will not be funded under this program. Please note that the project being proposed should be included in the pending section of the form.

14. Assurance Statement(s) (Form CSREES-2008)

A number of situations encountered in the conduct of projects require special assurances, supporting documentation, etc., before funding can be approved for the project. In addition to any other situation that may exist with regard to a particular project, applications involving any of the following elements must comply with the additional requirements as applicable.

15. Certifications

Note that by signing Form CSREES-2002 the applicant is providing the certifications required by 7 CFR part 3017, regarding Debarment and Suspension and Drug-Free Workplace, and 7 CFR part 3018, regarding Lobbying. The certification forms are included in the application package for informational purposes only. These forms should not be submitted with the application since by signing Form CSREES-2002 your organization is providing the required certifications. If the project will involve a subcontractor or consultant, the subcontractor/consultant should submit a Form AD-1048, Certification Regarding Debarment, Suspension, Ineligibility and Voluntary Exclusion—Lower Tier Covered Transactions, to the grantee organization for retention in their records. This form should not be submitted to USDA.

16. Compliance with the National Environmental Policy Act (NEPA) (Form CSREES-2006)

As outlined in 7 CFR part 3407 (the Cooperative State Research, Education, and Extension Service regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-2006, “NEPA Exclusions Form,” must be included in the application indicating whether the applicant is of the opinion that the project falls within a categorical exclusion and the reasons therefore. If it is the applicant's opinion that the proposed project falls within the categorical exclusions, the specific exclusion(s) must be identified.

Even though a project may fall within the categorical exclusions, CSREES may determine that an Environmental Assessment or an Environmental Impact Statement is necessary for an activity, if substantial controversy on environmental grounds exists or if other extraordinary conditions or circumstances are present which may cause such activity to have a significant environmental effect.

C. Submission of Applications

1. When To Submit (Deadline Date)

Applications must be received by COB on September 20, 2002 (5 p.m. Eastern Time). Applications received after this deadline will not be considered for funding.

2. What To Submit

An original and four copies (a total of five copies) of the application must be submitted in one package.

3. Where To Submit

Applicants are strongly encouraged to submit completed applications via overnight mail, U.S. Postal Service express mail or delivery service to ensure timely receipt by the USDA. The address for hand-delivered applications or applications submitted using express mail (U. S. Postal Service) or overnight courier service is:

Innovative Programs for Addressing Common Community Problems, c/o Proposal Services Unit, Cooperative State Research, Education, and Extension Service, U.S. Department of Agriculture, Room 1420, Waterfront Centre, 800 9th Street, SW., Washington, DC 20024. Telephone: (202) 401-5048.

Applications sent via the U.S. Postal Service must be sent to the following address:

Innovative Programs for Addressing Common Community Problems, c/o Proposal Services Unit, Cooperative State Research, Education, and Extension Service, U.S. Department of Agriculture, Stop 2245, 1400 Independence Avenue, SW., Washington, DC 20250-2245.

D. Acknowledgment of Applications

The receipt of all applications will be acknowledged by e-mail. Therefore, applicants are strongly encouraged to provide accurate e-mail addresses, where designated, on the Form CSREES-2002. If the applicant's e-mail address is not indicated, CSREES will acknowledge receipt of the application by letter.

If the applicant does not receive an acknowledgment within 60 days of the submission deadline, please contact the program director. Once the application has been assigned an application number, please cite that number on all future correspondence.

Part IV—Review Process

A. General

Each application will be evaluated in a two-part process. First, each application will be screened to ensure that it meets the administrative requirements as set forth in this RFA. Second, applications that meet these requirements will be technically evaluated by CSREES staff.

Since the award process must be completed by September 30, 2002, applicants should submit fully developed applications that meet all the requirements set forth in this RFA and have fully developed budgets as well. However, USDA does retain the right to conduct discussions with applicants to resolve technical and/or budget issues as it deems necessary.

At least three members of the CSREES staff will conduct the merit review based on the evaluation criteria. Evaluated applications will be ranked based on merit. Final approval for the application recommended for an award will be made by the Administrator.

B. Evaluation Factors

The evaluation of Innovative Programs for Addressing Common Community Problems applications by CSREES reviewers will be based on the following criteria, weighted relative to each other, and assigned a point value, as noted in the parentheses following each criteria discussion:

1. How common community problems upon which information will be gathered will be identified. The applicant should describe its process for identifying community problems related to hunger and poverty, along with proposed solutions for such problems, and how the applicant will determine which problems and solutions will be included in the clearinghouse database (20 points);

2. How the applicant will identify and collect information from targeted entities (20 points);

3. The appropriateness of methods to deliver IPACCP information to targeted entities. The applicant should describe the full range of activities that will deliver information to targeted entities and how it will determine which method is most appropriate for which targeted entity (20 points);

4. How the applicant will organize and operate a national information clearinghouse on IPACCP issues (20 points); and

5. Organizational experience in researching and disseminating information on IPACCP issues (20 points).

C. Conflicts of Interest and Confidentiality

During the evaluation process, extreme care will be taken to prevent any actual or perceived conflicts of interest that may impact review or evaluation. Evaluations will be confidential to USDA staff members, expert reviewers, and the project director(s), to the extent permitted by law.

Names of submitting institutions and individuals, as well as application content and peer and staff evaluations, will be kept confidential, except to those involved in the review process, to the extent permitted by law. In addition, the identities of reviewers will remain confidential throughout the entire review process. Therefore, the names of the reviewers will not be released to applicants.

Part V—Award Administration

A. General

Within the limit of funds available for such purpose, the awarding official of CSREES shall make grant to the applicant whose application is judged most meritorious under the procedures set forth in this RFA. The date specified by the awarding official of CSREES as the effective date of the grant shall be no later than September 30 of the Federal fiscal year in which the project is approved for support and funds are appropriated for such purpose, unless otherwise permitted by law. It should be noted that the project need not be initiated on the grant effective date, but as soon thereafter as practical so that project goals may be attained within the funded project period. All funds granted by CSREES under this RFA shall be expended solely for the purpose for which the funds are granted in accordance with the approved application and budget, the regulations, the terms and conditions of the award, the applicable Federal cost principles, and the Department's assistance regulations (parts 3015 and 3019 of 7 CFR).

B. Organizational Management Information

Specific management information relating to an applicant shall be submitted on a one-time basis as part of the responsibility determination prior to the award of a grant identified under this RFA, if such information has not been provided previously under this or another CSREES program. CSREES will provide copies of forms recommended for use in fulfilling these requirements as part of the pre-award process. Although an applicant may be eligible based on its status as one of these entities, there are factors which may exclude an applicant from receiving Federal financial and non-financial assistance and benefits under this program (e.g., debarment or suspension of an individual involved or a determination that an applicant is not responsible based on submitted organizational management information).

C. Award Document and Notice of Award

The grant award document will provide pertinent instructions and information, including at a minimum, the following:

(1) Legal name and address of performing organization or institution to whom the Administrator has awarded a grant under the terms of this request for applications;

(2) Title of project;

(3) Name(s) and institution(s) of PD's chosen to direct and control approved activities;

(4) Identifying grant number assigned by the Department;

(5) Project period, specifying the amount of time the Department intends to support the project without requiring re-competition for funds;

(6) Total amount of Departmental financial assistance approved by the Administrator during the project period;

(7) Legal authority(ies) under which the grant is awarded;

(8) Approved budget plan for categorizing allocable project funds to accomplish the stated purpose of the grant award; and

(9) Other information or provisions deemed necessary by CSREES to carry out its respective granting activities or to accomplish the purpose of a particular grant.

Part VI—Additional Information

A. Access To Review Information

Copies of reviews, not including the identity of reviewers, and a summary of the expert reviewers' comments will be sent to the applicant PD after the review process has been completed.

B. Use of Funds; Changes

1. Delegation of Fiscal Responsibility

Unless the terms and conditions of the grant state otherwise, the grantee may not in whole or in part delegate or transfer to another person, institution, or organization the responsibility for use or expenditure of IPACCP funds.

2. Changes in Project Plans

a. The permissible changes by the grantee, PD(s), or other key project personnel in the approved project shall be limited to changes in methodology, techniques, or other similar aspects of the project to expedite achievement of the project's approved goals. If the grantee or the PD(s) is uncertain as to whether a change complies with this provision, the question must be referred to the Authorized Departmental Officer (ADO) for a final determination. The ADO is the signatory of the award document, not the program contact.

b. Changes in approved goals or objectives shall be requested by the grantee and approved in writing by the ADO prior to effecting such changes. In no event shall requests for such changes be approved which are outside the scope of the original approved project.

c. Changes in approved project leadership or the replacement or reassignment of other key project personnel shall be requested by the grantee and approved in writing by the ADO prior to effecting such changes.

d. Transfers of actual performance of the substantive programmatic work in whole or in part and provisions for payment of funds, whether or not Federal funds are involved, shall be requested by the grantee and approved in writing by the ADO prior to effecting such transfers, unless prescribed otherwise in the terms and conditions of the grant.

e. Changes in Project Period: The project period may be extended by CSREES without additional financial support, for such additional period(s) as the ADO determines may be necessary to complete or fulfill the purposes of an approved project. Any extension of time shall be conditioned upon prior request by the grantee and approval in writing by the ADO, unless prescribed otherwise in the terms and conditions of the grant.

f. Changes in Approved Budget: Changes in an approved budget must be requested by the grantee and approved in writing by the ADO prior to instituting such changes if the revision will involve transfers or expenditures of amounts requiring prior approval as set forth in the applicable Federal cost principles, Departmental regulations, or grant award.

C. Expected Program Outputs and Reporting Requirements

Upon the award of a grant, applicants will be requested to finalize goals and objectives against which progress will be measured on an annual basis. Grantees must submit an annual report narrative and budget summary detailing activities and expenditures on the project. A format for these reports will be provided on an annual basis by CSREES.

D. Applicable Federal Statutes and Regulations

Several Federal statutes and regulations apply to grant applications considered for review and to project grants awarded under this program. These include, but are not limited to:

7 CFR part 1, Subpart A—USDA implementation of the Freedom of Information Act.

7 CFR part 3—USDA implementation of OMB Circular No. A-129 regarding debt collection.

7 CFR part 15, subpart A—USDA implementation of Title VI of the Civil Rights Act of 1964, as amended.

7 CFR part 3015—USDA Uniform Federal Assistance Regulations, implementing OMB directives (i.e., OMB Circular Nos. A-21 and A-122) and incorporating provisions of 31 U.S.C. 6301-6308 (formerly the Federal Grant and Cooperative Agreement Act of 1977, Pub. L. 95-224), as well as general policy requirements applicable to recipients of Departmental financial assistance.

7 CFR part 3016—USDA Uniform Administrative Requirements for Grants and Cooperative Agreements to State and Local Governments.

7 CFR part 3017—USDA implementation of Governmentwide Debarment and Suspension (Nonprocurement) and Governmentwide Requirements for Drug-Free Workplace (Grants).

7 CFR part 3018—USDA implementation of Restrictions on Lobbying. Imposes prohibitions and requirements for disclosure and certification related to lobbying on recipients of Federal grants, cooperative agreements, and loans.

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

7 CFR part 3407—CSREES procedures to implement the National Environmental Policy Act of 1969, as amended.

29 U.S.C. 794 (section 504, Rehabilitation Act of 1973) and 7 CFR part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Applications and Awards

When an application results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the application. The original copy of an application that does not result in a grant will be retained by the Agency for a period of one year. Other copies will be destroyed. Such an application will be released only with the consent of the applicant or to the extent required by law. An application may be withdrawn at any time prior to the final action thereon.

F. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this Notice have been approved under OMB Document No. 0524-0039.

G. Definitions

For the purpose of this program, the following definitions are applicable:

(1) Administrator means the Administrator of CSREES and any other officer or employee of the Department to whom the authority involved is delegated.

(2) Authorized departmental officer means the Secretary or any employee of the Department who has the authority to issue or modify grant instruments on behalf of the Secretary.

(3) Authorized organizational representative means the president, director, or chief executive officer or other designated official of the applicant organization who has the authority to commit the resources of the organization.

(4) Budget period means the interval of time (usually 12 months) into which the project period is divided for budgetary and reporting purposes.

(5) Common Community Problems means problems or issues that are or contribute to the underlying causes of hunger and poverty, including the loss of farms and ranches, rural poverty, welfare dependency, the need for job training, and the need for self-sufficiency by individuals and communities.

(6) Community Food Project is a community-based project that requires a one-time infusion of Federal assistance to become self-sustaining and is designed to increase food security in a community by: (i) meeting the food needs of low-income people; (ii) increasing the self-reliance of communities in providing for their own food needs; and (iii) promoting comprehensive responses to local food, farm, and nutrition issues.

(7) Department or USDA means the United States Department of Agriculture.

(8) Grant means the award by the Secretary of funds to an eligible entity to assist in meeting the costs of conducting, for the benefit of the public, an identified project.

(9) Grantee means the organization designated in the grant award document as the responsible legal entity to which a grant is awarded.

(10) Innovative Programs to Address Common Community Problems means activities outlined in section 25 (h) of the Food Stamp Act of 1977, as amended.

(11) Matching means that portion of project costs not borne by the Federal Government, including the value of in-kind contributions.

(12) Non-governmental organization means in a literal sense any organization that is independent from government. NGOs are typically value-based organizations. Although the NGO sector has become increasingly professionalized over the last two decades, principles of altruism and voluntarism remain key defining characteristics.

(13) Prior approval means written approval evidencing prior consent by an authorized departmental officer.

(14) Project means the particular activity within the scope of the program supported by a grant award.

(15) Project director (PD) means the single individual designated by the grantee in the grant application and approved by the Secretary who is responsible for the direction and management of the project.

(16) Project period means the period, as stated in the award document, during which Federal sponsorship begins and ends.

(17) Secretary means the Secretary of Agriculture and any other officer or employee of the Department of Agriculture to whom the authority involved is delegated.

(18) Targeted entities means Federal agencies, States, political subdivisions, and non-governmental organizations.

(19) Third party in-kind contributions means non-cash contributions of property or services including real property, equipment, supplies and other expendable property, provided by non-Federal third parties and directly benefiting and specifically identifiable to the project.

Done at Washington, DC, this 4th day of September 2002.
Colien Hefferan,
Administrator, Cooperative State Research, Education, and Extension Service.

[FR Doc. 02-23026 Filed 9-9-02; 8:45 am]

BILLING CODE 3410-22-P